NUCLEAR REGULATORY COMMISSION

[NRC-2021-0001]

Sunshine Act Meetings

TIME AND DATE: Weeks of October 25, November 1, 8, 15, 22, 29, 2021.

PLACE: Commissioners' Conference Room, 11555 Rockville Pike, Rockville, Maryland.

STATUS: Public.

MATTERS TO BE CONSIDERED:

Week of October 25, 2021

Thursday, October 28, 2021

10:00 a.m. Meeting with the Organization of Agreement States and the Conference of Radiation Control Program Directors (Public Meeting); (Contact: Stephen Poy: 301-415-7135)

Additional Information: Due to COVID-19, there will be no physical public attendance.

The public is invited to attend the Commission's meeting live by webcast at the Web address— https://video.nrc.gov/.

Week of November 1, 2021—Tentative

There are no meetings scheduled for the week of November 1, 2021.

Week of November 8, 2021—Tentative

There are no meetings scheduled for the week of November 8, 2021.

Week of November 15, 2021—Tentative

There are no meetings scheduled for the week of November 15, 2021.

Week of November 22, 2021—Tentative

There are no meetings scheduled for the week of November 22, 2021.

Week of November 29, 2021—Tentative

There are no meetings scheduled for the week of November 29, 2021.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Tyesha.Bush@nrc.gov or Betty.Thweatt@nrc.gov.

The NRC is holding the meetings under the authority of the Government in the Sunshine Act, 5 U.S.C. 552b.

Dated: October 20, 2021.
For the Nuclear Regulatory Commission.
Wesley W. Held,
Policy Coordinator, Office of the Secretary.

[FR Doc. 2021-23247 Filed 10-20-21; 4:15 pm]

BILLING CODE 7590-01-P